DEPARTMENT OF THE INTERIOR

National Park Service

Notice of Inventory Completion for Native American Human Remains and Associated Funerary Objects in the Possession of the Peabody Essex Museum, Salem, MA

AGENCY: National Park Service, Interior.

ACTION: Notice.

Notice is hereby given in accordance with provisions of the Native American Graves Protection and Repatriation Act (NAGPRA), 43 CFR 10.9, of the completion of an inventory of human remains and associated funerary objects in the possession of the Peabody Essex Museum, Salem, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Peabody Essex Museum professional staff in consultation with representatives of Hui Malama I Na Kupuna O Hawai‘i Nei, Ka Lahui Hawai‘i, and the Office of Hawaiian Affairs.

Between 1820 and 1868, human remains representing a minimum of three individuals were collected as part of a refuse bowl with human teeth by Rev. Asa Thurston and his wife, Lucy Goodale. At an unknown time, this bowl was sent to Goodale relatives in Marlboro, MA. In 1925, the Goodale collection was purchased by Stephen W. Phillips and Mrs. Stephen H. Phillips who donated the collection to the Peabody Essex Museum the same year. No known individuals were identified. No associated funerary objects are present.

Based on 43 CFR 10.2 (d)(2-4), Peabody Essex Museum officials have determined that this refuse bowl is not an unassociated funerary object, sacred object, or object of cultural patrimony. Human remains are defined under NAGPRA regulations 43 CFR 10.2 (d)(1) as “the physical remains of the body of a person of Native American ancestry.” The definition excludes from consideration under the statute human remains or portions of human remains that may reasonably be determined to have been freely given or naturally shed by the individual from whose body the remains were obtained.

Based on historical and anthropological evidence, Peabody Essex Museum officials have determined that these teeth were not freely given or naturally shed from the individuals from whose bodies the teeth were obtained. Based on this evidence, the definition in 43 CFR 10.2 (d)(1), and regulatory critieria provided by the Departmental Consulting Archeologist for consideration by the museum, Peabody Essex Museum officials have determined these human remains are most likely those of Native Hawaiians. In making this determination, the Peabody Essex Museum also considered a previously published Notice of Inventory Completion in which the Bernice Pauahi Bishop Museum determined that human teeth set into a refuse bowl and other similar objects such as kahili and handles containing human remains are human remains for the purposes of NAGPRA.

Based on the above-mentioned information, officials of the Peabody Essex Museum have determined that, pursuant to 43 CFR 10.2 (d)(1), the human remains listed above represent the physical remains of a minimum of three individuals of Native American ancestry. Officials of the Peabody Essex Museum also have determined that, pursuant to 43 CFR 10.2 (e), there is a relationship of shared group identity which can be reasonably traced between these Native American human remains and Hui Malama I Na Kupuna O Hawai‘i Nei, Ka Lahui Hawai‘i, and the Office of Hawaiian Affairs.

This notice has been sent to officials of Hui Malama I Na Kupuna O Hawai‘i Nei, Ka Lahui Hawai‘i, and the Office of Hawaiian Affairs. Representatives of any other Native Hawaiian organization that believes itself to be culturally affiliated with these human remains should contact Christina Hellmich, Director of Collections Management, Peabody Essex Museum, East India Square, Salem, MA 01970, telephone (978) 745-1876, facsimile (978) 744-0036, before April 9, 2001. Repatriation of the human remains to the Hui Malama I Na Kupuna O Hawai‘i Nei, Ka Lahui Hawai‘i, and the Office of Hawaiian Affairs may begin after that date if no additional claimants come forward.

Dated: February 21, 2001.
John Robbins,
Assistant Director, Cultural Resources Stewardship and Partnerships.

[FR Doc. 01-5947 Filed 3-8-01; 8:45 am]

BILLING CODE 4310-70-F